DEPARTMENT OF EDUCATION

[CFDA No. 84.336A]

Teacher Quality Enhancement Grants Program—State Grants; Notice Inviting Applications for New Awards for Fiscal Year (FY) 2002

Purpose of Program: The program provides grants to States to promote improvements in the quality of new teachers with the ultimate goal of increasing student achievement in the nation's pre-K-12 classrooms. For FY 2002, a new competition will be conducted under the State Grants program (State program). The purpose of the State Grants Program is to improve the quality of a State's teaching force by supporting the implementation of comprehensive statewide reform activities in areas such as teacher licensing and certification, accountability for high-quality teacher preparation, and recruitment.

Eligible Applicants: State Grants (including the District of Columbia, Puerto Rico and the insular areas)—States that did not receive an FY 1999 grant or FY 2000 initial year under the State Grants program.

Applications Available: May 1, 2002.

Deadline for Transmittal of Applications: July 1, 2002.

Deadline for Intergovernmental Review: August 29, 2002.

Available Funds: $33.8 million.

Estimated Range of Awards: Up to $5,000,000.

Estimated Average Size of Awards: $3.4 million per year.

Estimated Number of Awards: 10-26.

Note: The Department is not bound by any estimates in this notice.

Project Period: Up to 36 months.

Page Limit: The application narrative is where you, the applicant, address the selection criteria reviewers use to evaluate your application.

If you are submitting an application for a State grant, you must limit your narrative to the equivalent of no more than 50 pages and your accompanying work plan to the equivalent of no more than 10 pages. Submit the work plan as an appendix. In addition, you must limit your budget narrative to the equivalent of no more than 10 pages and your evaluation plan to the equivalent of no more than 5 pages.

For the application narrative, work plan, budget narrative, and evaluation plan, the following standards apply:

• A “page” is 8.5″ x 11″, on one side only, with 1″ margins at the top, bottom, and both sides.

• Double space (no more than three lines per vertical inch) all text, including titles, headings, quotations, references, and captions.

• Use a font that is either 12-point or larger or no smaller than 10 pitch (characters per inch).

• For tables, charts, or graphs also use a font that is either 12-point or larger or no smaller than 10 pitch.

Our reviewers will not read any of the specified sections of your application that—

• Exceed the page limit if you apply these standards; or

• Exceed the equivalent of the page limit if you apply other standards.

Applicable Regulations: (a) The Education Department General Administrative Regulations (EDGAR) in 34 CFR parts 75, 77, 79, 80, 82, 85, 86, 97, 98 and 99. (b) The regulations for this program in 34 CFR part 611.

FOR APPLICATIONS AND FURTHER INFORMATION CONTACT: Brenda Shade, Teacher Quality Program, Office of Postsecondary Education, U.S. Department of Education, 1990 K Street NW, Room 6152, Washington, DC 20006-8525. Telephone: (202) 502-7878, FAX: (202) 502-7699 or via Internet: Brenda.Shade@ed.gov. If you use a telecommunications device for the deaf (TDD), you may call the Federal Information Relay Service (FIRS) at 1-800-877-8339.

Individuals with disabilities may obtain this document in an alternative format (e.g., Braille, large print, audiotape, or computer diskette) on request to the program contact person listed under FOR APPLICATIONS AND FURTHER INFORMATION CONTACT. However, the Department is not able to reproduce in an alternative format the standard forms included in the application process.

Electronic Access to This Document

You may view this document, as well as all other Department of Education documents published in the Federal Register, in text or Adobe Portable Document Format (PDF) on the Internet at the following site: www.ed.gov/legislation/FedRegister.

To use the PDF you must have the Adobe Acrobat Reader, which is available free at this site. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1021 et seq.

Dated: April 26, 2002.
Sally L. Stroup,
Assistant Secretary, Office of Postsecondary Education.

[FR Doc. 02-10710 Filed 4-30-02; 8:45 am]

BILLING CODE 4000-01-P